DEPARTMENT OF COMMERCE

Census Bureau

Agency Information Collection Activities; Submission for OMB Review; Comment Request; State and Local Government Finance and Public Employment and Payroll Forms

The Department of Commerce will submit to the Office of Management and Budget (OMB) for clearance the following proposal for collection of information under the provisions of the Paperwork Reduction Act.

Agency: U.S. Census Bureau.

Title: State and Local Government Finance and Public Employment and Payroll Forms.

OMB Control Number: 0607-0585.

Form Number(s): E-1, E-2, E-3, E-4, E-5, E-6, E-7, E-8, E-9, E-10, F-5, F-11, F-12, F-13, F-28, F-29, F-32.

Type of Request: Revision of a currently approved collection.

Number of Respondents: 73,508.

Average Hours per Response: 1.69 hours.

Burden Hours: 123,999.

Needs and Uses: The Census of Governments—Finance and its related Annual Surveys of State and Local Government Finances are comprised of the Annual Survey of State Government Finances, Annual Survey of Local Government Finances, Annual Survey of State Tax Collections and Annual Survey of Public Pensions. These surveys collect data on state government finances; estimates of local government revenue, expenditure, debt, and assets; and pension systems nationally and within state areas. The Census of Governments—Employment and Annual Survey of Public Employment and Payroll collect state and local government data on full-time and part-time employment, and payroll statistics by governmental function. The Census Bureau implements these programs through a full census every five years (years ending in `2' and `7'), every five years since 1957, and the annual sample of state and local governments in the intervening years, with a new sample selected every five years (years ending in `4' and `9'). Content on the census and annual surveys is the same, the only difference is the number of governmental units selected. This clearance and all future clearances will combine all Census of Governments programs and their related Annual programs, which were previously submitted separately.

The Census Bureau is requesting approval to conduct the 2020 and 2021 Annual Surveys of State and Local Government Finances, Annual Survey of Public Employment and Payroll and the 2022 Census of Governments—Finance and Employment. These programs are the only comprehensive source of state and local government finance, employment, and payroll data collected on a nationwide scale using uniform definitions, concepts, and procedures. Data are collected for all agencies, departments, and school districts, institutions of the fifty state and approximate 90,000 local governments (counties, municipalities, townships, and special districts) during the census years, and for a sample of the local governments (approximately 11,000) for the survey years.

An additional 13,000 units of school districts for local government finance are covered in a separate request.

The programs covered by this request have moved towards eliminating collection by paper form as much as, and when possible. Throughout this submission, the word “form” refers to the digital version of the form accessed by respondents using our online collection instrument rather than a paper form. The only exception to this is the F-13 form, which is sent via email with a fillable PDF because the small number (50) of respondents did not justify the cost of converting it to an electronic form. Below is a short description of the forms utilized for data collection. Each form is tailored to the unique characteristics of the type and size of government or government agency to be surveyed. The E series of forms are used in the Public Employment and Payroll collection and the F series of forms are used in the State and Local Government Finance collection:

E-1 State Agencies—State agencies, excluding state colleges and universities.

E-2 State Institutions of Higher Education—State institutions of higher education colleges and universities.

E-3 Special Districts and Local Agencies—Dependent agencies of local governments and single function special district governments.

E-4 Municipalities, Counties, Townships—County governments, municipalities, and township governments with a population of 1,000 or more.

E-5 Municipalities and Townships—Shortened version of the E-4 form for municipalities and townships with a population of <1,000.

E-6 School Systems—Local government operated institutions of education, elementary & secondary education and/or college & other postsecondary education.

E-7 Major Special Districts and Agencies—Multifunction dependent agencies and fire protection agencies for local governments, and multifunction special district governments.

E-8 Elementary and Secondary Education—Local government operated institutions of elementary and secondary education.

E-9 Police Protection Agencies—State and local government police protection agencies.

E-10 College and Other Postsecondary Education—Local government operated institutions of higher education.

F-5 State governments provide detailed data on their tax collections using a spreadsheet that they receive via email and that includes the OMB approval number, authority and confidentiality statements, and burden estimate.

F-11, F-12 State and local government pension systems provide data via electronic collection instrument on their receipts, payments, assets, membership, and beneficiaries.

F-13 State agencies provide data not included in the audits, electronic files and other primary sources the Census Bureau uses to compile state government financial data via a fillable PDF that they receive via email that includes the OMB approval number, authority and confidentiality statements. Form F-13 is used to collect data from state insurance trust systems.

F-28 Counties, cities, and townships provide data via electronic collection instrument on revenues, expenditures, debt, and assets.

F-29 Multi-function special district governments provide data via electronic collection instrument on revenues, expenditures, debt, and assets.

F-32 Single-function special district governments and dependent agencies of local governments provide data via electronic collection instrument on revenues, expenditures, debt and assets.

In addition to the above collection methods, the Census Bureau also collects electronic data files through arrangements with state governments, central collection arrangements with local governments, and using customized electronic reporting instruments.

The Census of Governments-Finance and its related Annual Surveys of State and Local Government Finances, provide data on state government finances and estimates of local government revenue, expenditure, debt, assets, and pension systems nationally and within state areas. The Census of Governments- Employment and Annual Survey of Public Employment and Payroll provide data on state and local government employment and payroll in the United States. Census Bureau staff apply a standard set of criteria while classifying government activity in order to provide a complete and uniform set of data on the finance and employment activities of governments in the United States.

These data are widely used by Federal, state, and local legislators, policy makers, analysts, economists, and researchers to follow the changing characteristics of the government sector of the economy. The data are also widely used by the media and academia.

Statistics compiled from data gathered using these forms are used in several important Federal government programs. Economists at the Bureau of Economic Analysis (BEA) use these statistics for developing the National Income and Product Accounts. According to the Chief Economist of BEA, BEA uses the information from these surveys to prepare the national income and product accounts (NIPA), regional accounts, and industry accounts. The data obtained from these forms are critical to BEA for maintaining reliable estimates. Specifically, BEA uses national, state, local, and type-of-government aggregate data by function for full-time and part-time employees, and payroll to prepare estimates of functional payrolls for the public sector of the gross domestic product (GDP) as well as to derive state-level estimates of the employment and wages and salaries of students and their spouses who are employed by public institutions of higher education in which the students are enrolled. There is no other national or state source for information on student workers at state institutions of higher education. The Federal Reserve Board use these finance data for constructing the Flow of Funds Accounts.

Additionally, the state and local government finance data are also needed as inputs into the Criminal Justice Expenditure and Employment Extract Series (CJEE), produced by the Bureau of Justice Statistics, and the National Health Expenditure Accounts produced by the Centers for Medicare and Medicaid Services. The data are also published annually in the Digest of Education Statistics produced by National Center for Education Statistics, the Economic Report of the President produced by the Council of Economic Advisors, and the source data are used as input into the State and Local Governments Fiscal Outlook published by the Government Accountability Office. In addition, the data are used by the National Science Foundation as inputs into the State government R&D expenditures.

Public interest groups of many types produce analyses of public sector activities using these data in addition to user organizations representing state and local government include the Council of State Governments, the National Conference of State Legislatures, Government Research Association, U.S. Conference of Mayors, National Association of Counties, National League of Cities, and the National Association of Towns and Townships. Other data users such as the National School Boards Association and the National Sheriffs Association also use these data for more specific analyses of government activities.

State and local government financial information has continued to garner significant media attention and policy coverage as they provide insight into the complex nature and fiscal health of state and local government finances.

Affected Public: State & local governments.

Frequency: Annually.

Respondent's Obligation: Voluntary.

Legal Authority: Title 13, Section 161, of the United States Code requires the Secretary of Commerce to conduct a census of governments every fifth year. Section 182 allows the Secretary of Commerce to conduct annual surveys in other years.

This information collection request may be viewed at www.reginfo.gov. Follow the instructions to view Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0585.

Sheleen Dumas,
Department PRA Clearance Officer, Office of the Chief Information Officer, Commerce Department.

[FR Doc. 2020-07590 Filed 4-9-20; 8:45 am]

BILLING CODE 3510-07-P